FEDERAL COMMUNICATIONS COMMISSION

47 CFR Part 64

[WC Docket No. 17-97; FCC 20-136; FRS 29244]

Call Authentication Trust Anchor

AGENCY: Federal Communications Commission.

ACTION: Final rule; announcement of effective date.

SUMMARY: In this document, the Commission announces that the Office of Management and Budget (OMB) has approved, for a period of three years, the information collection associated with the Commission's Call Authentication Trust Anchor, Second Report and Order (Order)'s caller ID authentication rules. This document is consistent with the Order, which stated that the Commission would publish a document in the Federal Register announcing the effective date of those rules.

DATES: The additions of 47 CFR 64.6303(b) (instruction 6) and 64.6305(b) and (c) (instruction 9), published at 85 FR 73360 on November 17, 2020, are effective June 4, 2021. This rule is effective June 4, 2021.

FOR FURTHER INFORMATION CONTACT: Jonathan Lechter, Competition Policy Division, Wireline Competition Bureau, at (202) 418-0984, or email: jonathan.lechter@fcc.gov.

SUPPLEMENTARY INFORMATION: This document announces that, on May 13, 2021, OMB approved, for a period of three years, the information collection requirements relating to the caller ID identification rules contained in the Commission's Order, FCC 20-136, published at 85 FR 73360 on November 17, 2020 (47 CFR 64.6303(b), 64.6305(b) and (c), and 64.6306(e)). The OMB Control Number is 3060-1285. The Commission publishes this document as an announcement of the effective date of §§ 64.6303(b) and 64.6305(b) and (c). In the Order and the text of §§ 64.6305(b) and (c) and 64.6306(e), the Commission directed the Wireline Competition Bureau to set the compliance dates for these rules. On April 20, 2021, the Wireline Competition Bureau released a Public Notice, DA 21-454, setting the date by which voice service providers submit information into the Commission's Robocall Mitigation Database (database) (§ 64.6305(b)) and the date by which intermediate providers may no longer accept voice traffic from any provider that does not appear in the database (§ 64.6305(c)). Voice service providers must submit information into the database by June 30, 2021 and intermediate providers may no longer accept voice traffic from any provider that does not appear in the database by September 28, 2021. We therefore modify the text of § 64.6305(b) and (c), previously published at 85 FR 73360, to incorporate these compliance dates announced by the Wireline Competition Bureau. The amendment to § 64.6306(e), published at 85 FR 73360 on November 17, 2020, remains delayed indefinitely pending further Commission action setting the compliance date for exemption certifications filed under § 64.6306(e) and subsequent publication of the effective date and conforming amendments to the rule in the Federal Register.

If you have any comments on the burden estimates listed below, or how the Commission can improve the collections and reduce any burdens caused thereby, please contact Nicole Ongele, Federal Communications Commission, Room 3.310, 45 Street NE, Washington, DC 20554. Please include the OMB Control Number, 3060-1285, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 13, 2021, for the information collection requirements contained in the modifications to the Commission's rules in 47 CFR part 64 and modifying the language of § 64.6305(b) and (c) to conform to the compliance dates adopted by the Wireline Competition Bureau in DA 21-454.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1285.

The foregoing notice is required by the Paperwork Reduction Act of 1995, Public Law 104-13, October 1, 1995, and 44 U.S.C. 3507.

The total annual reporting burdens and costs for the respondents are as follows:

OMB Control Number: 3060-1285.

OMB Approval Date: May 13, 2021.

OMB Expiration Date: May 31, 2024.

Title: Compliance with the Non-IP Call Authentication Solution Rules; Robocall Mitigation Database; Certification to Verify Exemption from Caller ID Authentication Implementation Mandate.

Form Number: N/A.

Respondents: Business or other for-profit entities.

Number of Respondents and Responses: 6,535 respondents; 6,535 responses.

Estimated Time per Response: .5 hours-3 hours.

Frequency of Response: Recordkeeping requirement and on-occasion reporting requirement.

Obligation to Respond: Mandatory and required to obtain or retain benefits. The statutory authority for this information collection is contained in sections 227(b), 227(e) and 251(e) of the Communications Act of 1934.

Total Annual Burden: 15,520 hours.

Total Annual Cost: No Cost.

Nature and Extent of Confidentiality: The Commission will consider the potential confidentiality of any information submitted, particularly where public release of such information could raise security concerns (e.g., granular location information). Respondents may request materials or information submitted to the Commission or to the Administrator be withheld from public inspection under 47 CFR 0.459 of the Commission's rules.

Privacy Act Impact Assessment: No impact(s).

Needs and Uses: On October 1, 2020, the Commission released the Order, FCC 20-136, published at 85 FR 73360, November 17, 2020, adopting final rules—containing information collection requirements—designed to promote caller ID authentication technology. The rules implement the Pallone-Thune Telephone Robocall Abuse Criminal Enforcement and Deterrence Act (TRACED Act), promoting the deployment of caller ID authentication technology, and combatting the practice of illegal caller ID spoofing. In doing so, the Order adopts rules governing intermediate providers and caller ID authentication in non-IP networks, implements the exceptions and extensions established by the TRACED Act and prohibits line-item charges for caller ID authentication.

List of Subjects in 47 CFR Part 64

Common carriers.

Federal Communications Commission.
Marlene Dortch,
Secretary.

For the reasons set forth in the preamble, the Federal Communications Commission amends part 64 of title 47 of the Code of Federal Regulations as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 262, 276, 403(b)(2)(B), (c), 616, 620, 1401-1473, unless otherwise noted; Pub. L. 115-141, Div. P, sec. 503, 132 Stat. 348, 1091.

2. Amend § 64.6305 by revising paragraphs (b)(1) introductory text and (c) to read as follows:

§ 64.6305 Robocall mitigation and certification.

* * * * *

(b) * * *

(1) Not later than June 30, 2021, a voice service provider, regardless of whether it is subject to an extension granted under § 64.6304, shall certify to one of the following:

* * * * *

(c) Intermediate provider and voice service provider obligations. Beginning September 28, 2021, intermediate providers and voice service providers shall only accept calls directly from a voice service provider, including a foreign voice service provider that uses North American Numbering Plan resources that pertain to the United States to send voice traffic to residential or business subscribers in the United States, if that voice service provider's filing appears in the Robocall Mitigation Database in accordance with paragraph (b) of this section.

[FR Doc. 2021-11682 Filed 6-3-21; 8:45 am]

BILLING CODE 6712-01-P